DEPARTMENT OF ENERGY

Federal Energy Regulatory Commission

[Docket No. IC26-5-000]

Commission Information Collection Activities (Ferc-552, Ferc-549e); Consolidated Comment Request; Extension

ACTION: Notice of information collection and request for comments.

SUMMARY: In compliance with the requirements of the Paperwork Reduction Act of 1995, 44 U.S.C. 3506(c)(2)(A), the Federal Energy Regulatory Commission (Commission or FERC) is soliciting public comment on the currently approved information collection, FERC-552, Annual Report of Natural Gas Transactions, and FERC-549E, Price Index Data Providers and Developers. There is no change to the information collection requirements.

DATES: Comments on the collections of information are due February 17, 2026.

ADDRESSES: Please submit comments via email to DataClearance@FERC.gov. You must specify the Docket No. (IC26-5-000) and the FERC Information Collection number (FERC-552 or 549E) in your email. If you are unable to file electronically, comments may be filed by USPS mail or by hand (including courier) delivery:

• Mail via U.S. Postal Service only, addressed to: Federal Energy Regulatory Commission, Secretary of the Commission, 888 First Street NE, Washington, DC 20426.

• Hand (including courier) delivery to: Federal Energy Regulatory Commission, 12225 Wilkins Avenue, Rockville, MD 20852.

Docket: To view comments and issuances in this docket, please visit https://elibrary.ferc.gov/eLibrary/search.

FOR FURTHER INFORMATION CONTACT: Kayla Williams may be reached by email at DataClearance@FERC.gov, or by telephone at (202)502-6468.

SUPPLEMENTARY INFORMATION:

Title: FERC-552, Annual Report of Natural Gas Transactions; FERC-549E, Price Index Data Providers and Developers.

OMB Control No.: 1902-0242, 1902-0328

Type of Request: Three-year extension of the FERC-549E and FERC-552 information collection requirements with no changes to the current reporting requirements.

Abstract:

FERC-552: The Commission uses the information collected in the FERC Form No. 552 ¹ to provide greater transparency into the size of the physical natural gas market and the use of physical fixed-price and index-based natural gas transactions. This information assists the Commission and the public in assessing whether index prices are the result of a robust market of fixed-price transactions.

¹ FERC Form No. 552 is prescribed in 18 CFR 260.401.

FERC Form No. 552 had its genesis in the Energy Policy Act of 2005,² which added section 23 of the Natural Gas Act (NGA). Section 23 of the NGA, among other things, directs the Commission “to facilitate price transparency in markets for the sale or transportation of physical natural gas in interstate commerce, having due regard for the public interest, the integrity of those markets, and the protection of consumers.” ³

² Energy Policy Act of 2005, Public Law 109-58, sections 1261 et seq., 119 Stat. 594 (2005).

³ 15 U.S.C. 717t-2(a)(1)(2006).

FERC-549E: Price indices are commonly used in natural gas and electricity wholesale markets. These indices are used by market participants to price their commodities. The Commission set forth standards for price index developers to demonstrate that their internal processes were sufficient to qualify as a Commission-approved price index developer and, thus, have their price indices referenced in Commission-jurisdictional tariffs in their Initial Policy Statement.⁴ Price index developers seeking approval voluntarily provide written statements to the Commission to explain how they met these standards. The Commission uses the information collected from these price index developers to determine whether the Commission would approve the use of their indices in Commission-jurisdictional tariffs. After the Initial Policy Statement was issued, thirteen price index developers sought approval. The Commission issued a Revised Policy Statement on April 21, 2022, effective on December 31, 2022.⁵ Beginning six months after the effective date of this revision, interstate natural gas pipelines and public utilities proposing to use price indices in jurisdictional tariffs are no longer entitled to the rebuttable presumption that a price index developer's price indices produce just and reasonable rates unless the price index developer has obtained approval or re-approval from the Commission within the last seven years. The FERC-549E represents the burden for price index developers to comply with Commission requirements pertaining to information collection and data publication and to seek approval of their index with the Commission and for data providers that submit information to price index developers.

⁴ 104 FERC ¶ 61,121 (Initial Policy Statement), clarified, Order on Clarification of Policy Statement on Natural Gas and Electric Price Indices, 105 FERC ¶ 61,282 (2003) (2003 Clarification Order), clarified, Order Further Clarifying Policy Statement on Natural Gas and Electric Price Indices, 112 FERC ¶ 61,040 (2005) (2005 Clarification Order).

⁵ Actions Regarding the Commission's Policy on Price Index Formation and Transparency, and Indices Referenced in Natural Gas and Electric Tariffs (PL20-3-000) (Revised Policy Statement), April 21, 2022.

Type of Respondents: Wholesale natural gas market participants (FERC-552), price index data providers and developers (FERC-549E).

Estimate of Annual Burden: ⁶ The Commission estimates the annual public reporting burden for the information collection as:

⁶ The Commission defines burden as the total time, effort, or financial resources expended by persons to generate, maintain, retain, or disclose or provide information to or for a Federal agency. For further explanation of what is included in the information collection burden, reference 5 Code of Federal Regulations 1320.3.

| Number of respondents | Annual number of responses per respondent | Total number of responses | Average burden & cost per response 7 | Total annual burden hours & total annual cost | Cost per respondent ($)
| (1) | (2) | (1) * (2) = (3) | (4) | (3) * (4) = (5) | (5) ÷ (1)
FERC-552: Annual Report of Natural Gas Transactions 8
Wholesale natural gas market participants | 671 | 1 | 671 | 20 hrs.; $2,060 | 13,420 hrs.; $1,382,260 | 2,060
FERC 549E: Price Index Data Providers 9 and Developers
Data providers (and their affiliates) report Next Day Transactions | 76 | 249 | 18,924 | 4 hrs.; $412 | 75,696 hrs.; $7,796,688 | 102,588
Data Providers-perform biennial self-audit (not annual) | 96 | .5 | 48 | 80 hrs.; $8,240 | 3,840 hrs.; $395,520 | 4,120
Data Providers (and their affiliates) report Next Month Transactions | 70 | 12 | 840 | 4 hrs.; $412 | 3,360 hrs.; $346,080 | 4,944
Price Index Developers—code of conduct & confident.; & inform customers | 6 | 1 | 6 | 80 hrs.; $8,240 | 480 hrs.; $49,440 | 8,240
Price Index Developers—identify assessed index price vs. calculated | 6 | 1 | 6 | 80 hrs.; $8,240 | 480 hrs.; $49,440 | 8,240
Price Index Developers—re-certify every 7 yrs. | 6 | .14 | 1 | 269 hrs.; $27,707 | 269 hrs.; $27,707 | 4,618
Total FERC 549E |  |  | 19,825 |  | 84,125; $8,664,875 | 132,750

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁷ The estimates for cost per response are derived using the following formula: Average Burden Hours per Response $103 per Hour = Average Cost per Response. The hourly cost figure comes from FERC's average annual cost of salary plus benefits in FY25 of $214,093. We believe this estimate is comparable to respondents salaries.

⁸ Based off of CY 2024 FERC Form 552 data.

⁹ Id.

Dated: December 12, 2025.
Debbie-Anne A. Reese,
Secretary.

[FR Doc. 2025-23220 Filed 12-17-25; 8:45 am]

BILLING CODE 6717-01-P